DEPARTMENT OF JUSTICE

[OMB Number 1121-0149]

Agency Information Collection Activities; Proposed Collection Comments Requested; Reinstatement, With Change, of a Previously Approved Collection for Which Approval Has Expired: National Survey of Prosecutors (NSP)

AGENCY: Bureau of Justice Statistics, Department of Justice.

ACTION: 60-Day notice.

SUMMARY: The Department of Justice (DOJ), Office of Justice Programs, Bureau of Justice Statistics (BJS), will be submitting the following information collection request to the Office of Management and Budget (OMB) for review and approval in accordance with the Paperwork Reduction Act of 1995.

DATES: Comments are encouraged and will be accepted for 60 days until October 13, 2020.

FOR FURTHER INFORMATION CONTACT: If you have additional comments especially on the estimated public burden or associated response time, suggestions, or need a copy of the proposed information collection instrument with instructions or additional information, please contact George Browne, Statistician, Prosecution and Judicial Statistics Unit, Bureau of Justice Statistics, 810 Seventh Street NW, Washington, DC 20531 (email: George.Browne@usdoj.gov; telephone: 202-307-1618).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Reinstatement of the National Survey of Prosecutors.

(2) The Title of the Form/Collection: 2020 National Survey of Prosecutors.

(3) The agency form number, if any, and the applicable component of the Department sponsoring the collection: The form number is NSP-20. The applicable component within the Department of Justice is the Bureau of Justice Statistics, in the Office of Justice Programs.

(4) Affected public who will be asked or required to respond, as well as a brief abstract: Respondents will be chief state prosecutors or their staff. Abstract: Among other responsibilities, the Bureau of Justice Statistics is charged with collecting data regarding the prosecution of crimes by state and federal offices. This information collection is a survey of local prosecutor offices that handles criminal cases in state courts. The Bureau of Justice Statistics (BJS) proposes to implement the next iteration of the National Survey of Prosecutors (NSP). Local prosecutors occupy a central role in a criminal justice system seeking to ensure justice is served. Prosecutors represent the local government in deciding who is charged with a crime, the type and number of charges filed, whether or not to offer a plea, and providing sentencing recommendations for those convicted of crimes. Since 1990, the NSP has been the only recurring national statistical program that captures the administrative and operational characteristics of the prosecutorial function in the State criminal justice system. The NSP will gather national statistics on local prosecutor office staffing and services, budgets and caseloads. In addition, this study will collect data on emerging topics such as provision of victim services, utilization of diversion programs and specialty courts and services provided on tribal lands by local prosecutor offices. These data will allow BJS to conduct trend analyses and comparisons with historical data, where available, and provide descriptive statistics on emerging crimes.

(5) An estimate of the total number of respondents and the amount of time estimated for an average respondent to respond: BJS will sample approximately 750 offices from the estimated 2,400 prosecutor offices across the U.S. The sample will include a census of all prosecutor offices located in counties of 500,000 or more (N=145 offices), and a sample proportionate to size for counties with less than 500,000 residents (N=605 offices). Based on cognitive interview testing of 24 respondents, an average of 80 minutes per respondent was needed to complete form NSP-19, including time to review materials and conduct data quality follow-up.

(6) An estimate of the total public burden (in hours) associated with the collection: The total respondent burden is approximately 1,000 burden hours for all the jurisdictions surveyed.

If additional information is required contact: Melody Braswell, Department Clearance Officer, United States Department of Justice, Justice Management Division, Policy and Planning Staff, Two Constitution Square, 145 N Street NE, 3E.405A, Washington, DC 20530.

Dated: August 9, 2020.
Melody Braswell,
Department Clearance Officer for PRA, U.S. Department of Justice.

[FR Doc. 2020-17688 Filed 8-12-20; 8:45 am]

BILLING CODE 4410-18-P